DEPARTMENT OF DEFENSE

Office of the Secretary

[Docket ID: DoD-2023-OS-0081]

Proposed Collection; Comment Request

AGENCY: Office of the Under Secretary of Defense for Personnel and Readiness (OUSD(P&R)), Department of Defense (DoD).

ACTION: 60-Day information collection notice.

SUMMARY: In compliance with the Paperwork Reduction Act of 1995, the Under Secretary of Defense for Personnel and Readiness announces the proposed public information collections and seeks public comment on the provisions thereof. Comments are invited on: whether the proposed collections of information are necessary for the proper performance of the functions of the agencies, including whether the information shall have practical utility; the accuracy of the agencies' estimate of the burden of the proposed information collection; ways to enhance the quality, utility, and clarity of the information to be collected; and ways to minimize the burden of the information collections on respondents, including through the use of automated collection techniques or other forms of information technology.

DATES: Consideration will be given to all comments received by November 13, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on these proposed information collections or to obtain a copy of the proposal and associated collection instruments, please write to CNA Corporation, 3003 Washington Blvd., Arlington, VA, Ria Reynolds, MPH, reynoldsr@cna.org, 703-824-2765.

SUPPLEMENTARY INFORMATION:

Title; Associated Form; and OMB Number: Assessing the Implementation and Effectiveness of DOD's Lethal Means Safety (LMS) Outreach Materials; OMB Control Number 0704-ALOM.

Needs and Uses: The Deputy Secretary of Defense recently directed implementation of Service/Component tailored lethal means safety (LMS) plans, which leverage the Defense Suicide Prevention Office's (DSPO's) LMS suite of evidence-informed tools. In accordance with guidance, and with recommendations from the Government Accountability Office to assess the efficacy of nonclinical suicide prevention efforts, DSPO aims to help the Services and Components conduct a thorough evaluation of their LMS outreach efforts.

DSPO has contracted with CNA to assist the Services and Components in meeting the requirements set forth in DOD Instruction 6490.16 that all suicide prevention activities are developed from a relevant evidence-base and have an evaluation capability prior to implementation. CNA, in conjunction with the participating Services and Components (i.e., Air Force, Army, Navy, and SOCOM), propose the following information collections focused on specific to the needs of each respective Service/Component to assess the implementation, acceptability, and/or effect of their specific LMS activities and materials. Depending on the nature of the selected evaluation activities, study data will be collected via key informant (KI) interviews and/or a survey.

Air Force: The intent of the voluntary Air Force Time-Based Prevention (TBP) KI Interviews is to help the Air Force gain a better understanding of the implementation and utility of the Air Force's TBP communications and messaging, as well as barriers to implementation.

Army: The intent of voluntary Army LMS Toolkit Key Personnel Baseline and Follow-up Interviews is to consult with key Army personnel to gain a better understanding of the implementation and utility of the Army's new LMS Toolkit.

Navy: The intent of voluntary Navy Gun Lock Distribution KI interviews is to help the Navy evaluate their gun lock distribution efforts and learn how the Navy may improve its safe storage practice materials, outreach, and implementation efforts.

Navy: The intent of the voluntary Navy Community Lethal Means Safety Survey is to learn about the Navy community's awareness of current lethal means safety programs, preferences for safety devices and safe storage locations, and thoughts about the place of safety in Navy culture.

SOCOM: The intent of the voluntary SOCOM LMS Integrated Performance Plan (IPP) KI Interviews is to help SOCOM gain a better understanding of the implementation and utility of SOCOM's LMS IPP and learn how the SOCOM Suicide Prevention program may improve its LMS materials, outreach, and implementation efforts.

The Services and Components will use the results of their respective voluntary KI interviews and/or survey to tailor their LMS activities, materials, messaging, training, and outreach efforts to maximize their effectiveness with their Service members and communities.

Affected Public: Individuals or households.

Key Informant Interviews

Annual Burden Hours: 80.

Number of Respondents: 80.

Responses per Respondent: 1.

Annual Responses: 80.

Average Burden per Response: 1 hour.

Navy Community Lethal Means Safety Survey

Annual Burden Hours: 2,500.

Number of Respondents: 10,000.

Responses per Respondent: 1.

Annual Responses: 10,000.

Average Burden per Response: 15 minutes.

Total Burden

Annual Burden Hours: 2,580.

Number of Respondents: 10,080.

Annual Responses: 10,080.

Frequency: As required.

Dated: September 5, 2023.
Aaron T. Siegel,
Alternate OSD Federal Register Liaison Officer, Department of Defense.

[FR Doc. 2023-19838 Filed 9-13-23; 8:45 am]

BILLING CODE 5001-06-P